DEPARTMENT OF COMMERCE

Submission for OMB Review: Comment Request

DOC has submitted to the Office of Management and Budget (OMB) for clearance the following proposal for collection of information under the provisions of the Paperwork Reduction Act of 1995, Public Law 104-13.

Bureau: International Trade Administration.

Title: International Trade Specialist Counseling Session Survey.

Agency Form Number: ITA-4154P.

OMB Number: 0625-0253.

Type of Request: Revisions, Regular Submission.

Burden: 284.

Number of Respondents: 1700.

Avg. Hours per Response: 10 minutes.

Needs and Uses: The International Trade Administration's U.S. Commercial Service is mandated by Congress to help U.S. businesses, particularly small and medium-sized companies, export their products and services to global markets. To accomplish its mission effectively, the U.S. Commercial Service needs ongoing feedback on its programs. In addition to collecting client feedback for pay-for-use products/events provided by the U.S. Commercial Service's international offices, the U.S. Commercial Service would like to institutionalize Counseling Session Surveys to obtain client feedback from U.S. businesses that have engaged in “counseling sessions” with CS International Trade Specialists in the domestic offices (known as U.S. Export Assistance Centers). Counseling sessions occur when an International Trade Specialist from one of the U.S. Commercial Service's domestic offices works with a client to determine their international marketing interests and provide “global trade solutions”.

This information collection item allows the U.S. Commercial Service to solicit clients' opinions about the counseling services provided by International Trade Specialists located in domestic offices known as U.S. Export Assistance Centers. The information is used for program improvement, strategic planning, and allocation of resources. The surveys are part of ITA's effort to implement objectives of the National Performance Review (NPR) and Government Performance and Results Act (GPRA). Survey responses will acquaint ITA managers with firms' perceptions and assessments of export-assistance counseling provided by International Trade Specialists in U.S. Export Assistance Centers. This information is critical for improving the level of service provided to U.S. businesses by the U.S. Commercial Service's International Trade Specialists. Survey responses are used to assess client satisfaction, assess priorities, and identify areas where service levels and benefits differ from client expectations. Clients benefit because the information is used to improve services provided to the public. In addition, respondents will benefit from more effective follow-up to their unmet needs and expectations and more efficient resolution to their exporting issues and challenges. Without this information, the U.S. Commercial Service is unable to systematically determine client perceptions about the quality and benefit of its export counseling services.

Affected Public: Businesses or other for profit, not-for-profit institutions.

Frequency: On occasion.

Respondents Obligation: Required to obtain or retain a benefit, voluntary.

OMB Desk Officer: David Rostker, (202) 395-3897.

Copies of the above information collection can be obtained by writing Diana Hynek, Departmental Paperwork Clearance Officer, Department of Commerce, Room 6625, 14th and Constitution Avenue, NW., Washington, DC 20230. E-mail: dHynek@doc.gov.

Written comments and recommendations for the proposed information collection should be sent to David Rostker, OMB Desk Officer, David_Rostker@omb.eop.gov or fax (202) 395-7285 within 30 days of the publication of this notice in the Federal Register.

Dated: December 11, 2006.
Madeleine Clayton,
Management Analyst, Office of the Chief Information Officer.

[FR Doc. E6-21327 Filed 12-14-06; 8:45 am]

BILLING CODE 3510-FP-P